DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

New Gene Expressed in Prostate Cancer and Methods of Use

TK Bera, C Wolfgang, I Pastan (NCI), B Lee, J Vincent;

DHHS Reference No. E-005-2002 filed Nov. 14, 2001;

Licensing Contact: Jonathan Dixon; 301/435-5559; dixonj@od.nih.gov.

A new polypeptide is described in this invention that is specifically detected in the cells of the prostate. This polypeptide has been termed Novel Gene Expressed In Prostate (NGEP). There are potential claims to the NGEP gene, polynucleotides encoding NGEP, antibodies to NGEP, methods for using an NGEP polypeptide, polynucleotide, or antibody, and pharmaceutical compositions containing any of the above NGEP-related molecules. This invention might be useful in prostate cancer diagnostics, such as an assay to detect prostate cancer, or as a therapeutic directed towards prostate cancer.

Use of Interferon-Inducible 2',5'-Oligoadenylate-Dependent RNase in the Diagnosis, Prognosis, and Treatment of Prostate Cancer

J. Carpten (NHGRI), J. Trent (NHGRI), J. Smith, P. Walsh, W. Isaacs, D. Stephan, and N. Nupponen (NHGRI);

PCT Application PCT/US02/19516 (DHHS Ref. E-196-01/1), claiming priority to a U.S. Provisional Patent Application filed on June 20, 2001;

Licensing Contact: Brenda Hefti; 301/435-4632; heftib@od.nih.gov.

This invention pertains to the use of interferon-inducible 2',5'-oligoadenlyate-dependent RNase L in the diagnosis, prognosis and treatment of cancer, particularly prostate cancer. The inventors have identified a potential prostate cancer susceptibility locus, which has been designated HPC1 due to its putative link to hereditary prostate cancer. HPC1 may lead to an early, sensitive and accurate method for detecting cancer or a predisposition to cancer, especially prostate cancer, in a mammal. In addition, such claimed methods can be used to monitor onset and progression of cancer, as well as a patient's response to a particular treatment.

Signal Transduction Inhibitor Compounds in Clinical Trials as Cancer Therapeutics

Elise C. Kohn, Lance A. Liotta, Christian C. Felder (NCI);

U.S. Patent 5,359,078 issued October 25, 1994;

U.S. Patent 5,482,954 issued January 9, 1996;

U.S. Patent 5,498,620 issued March 12, 1996;

U.S. Patent 5,705,514 issued January 6, 1998;

U.S. Patent 5,880,129 issued March 9, 1999;

Licensing Contact: Brenda Hefti; 301/435-4632; heftib@od.nih.gov.

The above issued patents relate to azole, diazole, and triazole compounds that appear to inhibit signal transduction and inhibit invasion and metastasis of malignant solid tumors. A number of these compounds are in phase I, II and III clinical trials for specific indications, and might be useful in other indications as well.

These issued patents claim a number of compositions of matter, pharmaceutical compositions of said compounds, and methods of using said compounds.

Dated: November 4, 2002.
Jack Spiegel,
Director, Division of Technology, Development and Transfer, Office of Technology Transfer, National Institutes of Health.

[FR Doc. 02-28536 Filed 11-7-02; 8:45 am]

BILLING CODE 4140-01-P